DEPARTMENT OF ENERGY

Federal Energy Regulatory Commission

[Project No. 2082-027]

PacifiCorp; Oregon and California; Notice of Intention To Hold Public Meetings for Discussion of the Draft Environmental Impact Statement for the Klamath Hydroelectric Project

October 5, 2006.

On September 25, 2006, Commission staff delivered the Draft Environmental Impact Statement (DEIS) for the relicensing of the Klamath Hydroelectric project to the Environmental Protection Agency and mailed it to resource and land management agencies, interested organizations, and individuals.

The DEIS was noticed in the Federal Register on September 29, 2006 (71 FR 57503) and comments are due November 24, 2006. The DEIS evaluates the environmental consequences of the issuance of a new license for the continued operation and maintenance of the Klamath Hydroelectric, located primarily on the Klamath River, in Klamath County, Oregon and Siskiyou County, California. The existing project occupies a total of 219 acres of land administered by the U.S. Bureaus of Land Management and Reclamation. It also evaluates the environmental effects of implementing the licensee's proposals, agency and NGO recommendations, staff's recommendations, and the no-action alternative.

Four public meetings, which will be recorded by an official stenographer, are scheduled as follows.

Date: Tuesday, November 14, 2006.

Time: 9 a.m.-12 noon (PST).

Place: Shilo Inn.

Address: 2500 Almond Street, Klamath Falls, Oregon.

Date: Wednesday, November 15, 2006.

Time: 9 a.m.-12 noon (PST).

Place: Yreka Community Theatre.

Address: 812 North Oregon Street, Yreka, California.

Date: Wednesday, November 15, 2006.

Time: 7-10 p.m. (PST).

Place: Yreka Community Theatre.

Address: 812 North Oregon Street, Yreka, California.

Date: Thursday, November 16, 2006.

Time: 7-10 p.m. (PST).

Place: Red Lion Hotel.

Address: 1929 Fourth Street, Eureka, California.

At these meetings, resource agency personnel and other interested persons will have the opportunity to provide oral and written comments and recommendations regarding the DEIS for the Commission's public record.

For further information, please contact John Mudre at e-mail address john.mudre@ferc.gov, or by telephone at (202) 502-8902.

Magalie R. Salas,
Secretary.

[FR Doc. E6-16974 Filed 10-12-06; 8:45 am]

BILLING CODE 6717-01-P